DEPARTMENT OF TRANSPORTATION

Surface Transportation Board

[Docket No. FD 30186]

Tongue River Railroad Company, Inc.—Rail Construction and Operation—in Custer, Powder River and Rosebud Counties, MT.; Correction to the Notice of Intent To Prepare an Environmental Impact Statement (EIS)

The Surface Transportation Board's Office of Environmental Analysis (OEA) issued a Notice of Intent (NOI) to prepare an EIS, a Draft Scope of Study, and a notice of scoping meetings in the above-captioned proceeding on October 22, 2012 and published it in the Federal Register on the same day. OEA is issuing this Notice of Correction because the location listed on page 3 of the NOI for the scoping meeting in Forsyth, Montana, is unavailable and has been changed.

The Forsyth meeting will be held at the following new location on Tuesday, November 13, 2012 between 2-4 p.m. and 6-8 p.m.: Haugo Center at Riverview Villa, Rosebud Street, Exit 95, Forsyth, MT 59327.

Please correct your copies accordingly. The NOI is available on the Board's Web site at www.stb.dot.gov.

By the Board, Victoria Rutson, Director, Office of Environmental Analysis.
Jeffrey Herzig,
Clearance Clerk.

[FR Doc. 2012-26981 Filed 11-5-12; 8:45 am]

BILLING CODE 4915-01-P